DEPARTMENT OF ENERGY

Federal Energy Regulatory Commission

Notice of Effectiveness of Exempt Wholesale Generator Status

| Docket Nos.
LSP Energy, Inc | EG11-43-000
Milford Wind Corridor Phase II, LLC | EG11-44-000
Elk Wind Energy LLC | EG11-45-000
Grande Prairie Generation, Inc | EG11-46-000
Mountain View Power Partner IV, LLC | EG11-47-000
Cedar Point Wind, LLC | EG11-48-000
Gratiot County Wind LLC | EG11-49-000
Cambria CoGen Company | EG11-50-000
CPV Batesville, LLC | EG11-51-000
Mount Miller Wind Energy Limited Partner | FC11-3-000
Grande Prairie Generation, Inc | FC11-4-000

Take notice that during the month of March 2011, the status of the above-captioned entities as Exempt Wholesale Generators or Foreign Utility Companies became effective by operation of the Commission's regulations. 18 CFR 366.7(a).

Dated: April 13, 2011.
Kimberly D. Bose,
Secretary.

[FR Doc. 2011-9519 Filed 4-19-11; 8:45 am]

BILLING CODE 6717-01-P